PACIFIC NORTHWEST ELECTRIC POWER AND CONSERVATION PLANNING COUNCIL

Northwest Power and Conservation Planning Council Power Plan Draft Amendments

AGENCY: Pacific Northwest Electric Power and Conservation Planning Council (Northwest Power and Conservation Council; Council).

ACTION: Notice of availability of Draft Fifth Northwest Conservation and Electric Power Plan.

SUMMARY: Following the mandate set out in the Pacific Northwest Electric Power Planning and Conservation Act of 1980 (U.S.C. 839 et seq.) (the Act), in April 1983 the Council adopted a regional power plan, the Northwest Conservation and Electric Power Plan (the plan). The plan was completely amended in 1986. Although the Act requires the Council to review the plan at least every five years, the Council has taken up certain parts of the plan more often, to respond to ongoing changes in the adequacy, efficiency, reliability and affordability of electric power in the region and to incorporate the most recent technology and analysis. The Council amended the plan in 1989 by publishing the 1989 Supplement to the 1986 Power Plan, updating certain technical data. In 1991 and 1998, the Council adopted complete amendments of the plan. Review of the plan began in 2002 and in September 2004, the Council released for public comment the Draft Fifth Power Plan. Hearings in each of the four Northwest States will be scheduled during the comment period, as required by the Act.

SUPPLEMENTARY INFORMATION: With the draft Fifth Power Plan, as with the First Power Plan, the Council responds to the impacts of a regional electric power crisis. The draft plan builds on the lessons of the Western electricity crisis of 2000 and 2001 and recommends actions the Council believes will help the region reduce the risks of an uncertain future and secure an adequate, efficient, economical, and reliable power supply.

The draft plan meets the requirements of the Act, which specifies the components the plan is to have. The Act requires the plan to include among other elements, an energy conservation program, a recommendation for research and development; a methodology for determining quantifiable environmental costs and benefits; a 20-year demand forecast; a forecast of power resources that the Bonneville Power Administration will need to meet its obligations; an analysis of reserve and reserve reliability requirements; and a surcharge methodology. The plan also includes the Council's Columbia River Basin Fish and Wildlife Program, developed pursuant to other procedural requirements under the Act.

The Council will give notice of opportunities for oral comment at hearings throughout the Northwest both in mailed notices and on its Web site. Close of comment for written comments is 5 p.m. Friday, November 19, 2004. The Council also may hold consultations on the draft plan during the public comment period.

FOR FURTHER INFORMATION CONTACT: If you would like a copy of the Draft Fifth Power Plan, please contact the Council's central office and ask for Council Document 2004-12. The Council's address is 851 SW., Sixth Avenue, Suite 1100, Portland, Oregon 97204. The Council's telephone numbers are 503-222-5161, and 800-452-5161; the Council's FAX is 503-820-2370. The Draft Fifth Power Plan is also found on the Council's Web site: http://www.nwcouncil.org.

If you are submitting comments on the draft plan, please note prominently that you are commenting on Council Document 2004-12. Comments may be submitted by mail, by facsimile transmission (FAX), or by electronic mail at: comments@nwcouncil.org.

Stephen L. Crow,
Executive Director.

[FR Doc. 04-22909 Filed 10-12-04; 8:45 am]

BILLING CODE 7905-01-P